DEPARTMENT OF JUSTICE

Office of Justice Programs

Agency Information Collection Activities: Proposed Collection; Comments Requested

ACTION: 30-day notice of information collection under review: National Prisoner Statistics—Prison Population Reports: NPS-1A, Midyear Population Counts; NPS-1B, Advance Endyear Population Counts.

The Department of Justice (DOJ), Office of Justice Programs (OJP) has submitted the following information collection request to the Office of Management and Budget (OMB) for review and approval in accordance with the Paperwork Reduction Act of 1995. The proposed information collection is published to obtain comments from the public and affected agencies. This proposed information collection was previously published in the Federal Register Volume 69, Number 154, page 48889 on August 11, 2004, allowing for a 60-day comment period.

The purpose of this notice is to allow for an additional 30 days for public comment until January 7, 2005. This process is conducted in accordance with 5 CFR 1320.10.

Written comments and/or suggestions regarding the items contained in this notice, especially the estimated public burden and associated response time, should be directed to the Office of Management and Budget, Office of Information and Regulatory Affairs, Attention Department of Justice Desk Officer, Washington, DC 20503. Additionally, comments may be submitted to OMB via facsimile to (202) 395-5806. Written comments and suggestions from the public and affected agencies concerning the proposed collection of information are encouraged. Your comments should address one or more of the following four points:

—Evaluate whether the proposed collection of information is necessary for the proper performance of the functions of the agency, including whether the information will have practical utility;

—Evaluate the accuracy of the agencies estimate of the burden of the proposed collection of information, including the validity of the methodology and assumptions used;

—Enhance the quality, utility, and clarity of the information to be collected; and

—Minimize the burden of the collection of information on those who are to respond, including through the use of appropriate automated, electronic, mechanical, or other technological collection techniques or other forms of information technology, e.g., permitting electronic submission of responses.

Overview of This Information Collection

(1) Type of Information Collection: Extension of a currently approved collection.

(2) Title of the Form/Collection: National Prisoner Statistics—Prison Population reports: NPS-1A, Midyear Population Counts; NPS-1B, Endyear Population Counts.

(3) Agency Form Number, If Any, and the Applicable Component of the Department Sponsoring the Collection: Form Number: NPS-1A and NPS-1B. Office of Justice Programs, Bureau of Justice Statistics (BJS), Department of Justice.

(4) Affected Public Who Will Be Asked or Required to Respond, as Well as a Brief Abstract: Primary: State Departments of Corrections. Others: The Federal Bureau of Prisons. For the NPS-1A form, 51 central reporters (one from each State and the Federal Bureau of Prisons) responsible for keeping records on inmates will be asked to provide information for the following categories:

(a) As of June 30, the number of male and female inmates under their jurisdiction with maximum sentences of more than one year, one year or less; and unsentenced inmates; and

(b) As of June 30, the number of male and female inmates in their custody with maximum sentences of more than one year, one year or less; and unsentenced inmates; and

(c) As of June 30, the number of male and female inmates under their jurisdiction housed in a privately-operated facility, either in state or out of state; and

(d) As of June 30, the number of male and females inmates in their custody by race and Hispanic origin.

For the NPS-1B form, 51 central reporters (one from each and the Federal Bureau of Prisons) responsible for keeping records on inmates will be asked to provide information for the following categories:

(a) As of December 31, the number of male and female inmates under their jurisdiction with maximum sentences of more than one year, one year or less; and unsentenced inmates; and

(b) The number of inmates housed in county or other local authority correctional facilities, or in other state or Federal facilities on December 31, solely to ease prison crowding; and

(c) As of the direct result of state prison crowding during 2001, the number of inmates released via court order, administrative procedure or statute, accelerated release, sentence reduction, emergency release, or other expedited release; and

(d) The aggregate rated, operational, and design capacities, by sex, of each State's correctional facilities at year-end.

The Bureau of Justice Statistics uses this information in published reports and for the U.S. Congress, Executive Office of the President, practitioners, researchers, students, the media, and others interested in criminal justice statistics.

(5) An estimate of the total number of respondents and the amount of time estimated for an average respondent to respond/reply: There are approximately 51 respondents each taking an average of 3.0 hours to respond.

(6) An estimate of the total public burden (in hours) associated with the collection: There are approximately 153 annual burden hours associated with this collection.

If additional information is required contact: Brenda E. Dyer, Department Clearance Officer, United States Department of Justice, Justice Management Division, Policy and Planning Staff, Patrick Henry Building, Suite 1600, 601 D Street NW., Washington, DC 20530.

Dated: December 2, 2004.
Brenda E. Dyer,
Department Clearance Officer, Department of Justice.

[FR Doc. 04-26907 Filed 12-7-04; 8:45 am]

BILLING CODE 4410-18-P